DEPARTMENT OF DEFENSE

Office of the Secretary

[Docket ID DOD-2010-OS-0120]

Privacy Act of 1974; System of Records; Correction

AGENCY: Department of Defense (DoD).

ACTION: Notice to delete a system of records; correction.

SUMMARY: On September 23, 2010 (75 FR 55907), DoD published a notice that cited an incorrect Air Force system name. This notice corrects that error.

FOR FURTHER INFORMATION CONTACT: Mrs. Cindy Allard at (703) 588-6830.

SUPPLEMENTARY INFORMATION:

Correction

In the notice published on September 23, 2010, in FR Doc. 2010-23791, on page 57907, in the first column, under the heading “Corrections”, in lines 13 and 14, remove the system name “Applications for Appointment and Extended Active Duty Files” and add in its place “Military Personnel Records System”.

Dated: September 27, 2010.
Mitchell S. Bryman,
Alternate OSD Federal Register Liaison Officer, Department of Defense.

[FR Doc. 2010-24552 Filed 9-29-10; 8:45 am]

BILLING CODE 5001-06-P